DEPARTMENT OF LABOR

Employment and Training Administration

[TA-W-57,236]

Pinnacle Foods, VanDeKamp Division of Pinnacle Foods Group, Including Leased Workers of Adecco Employment Service and Palladium Employment, Erie, PA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on July 25, 2005, applicable to workers of Pinnacle Foods, VanDeKamp Division of Pinnacle Foods Group, Erie, Pennsylvania. The notice will be published soon in the Federal Register.

At the request of the State agency, the Department reviewed the certification for workers of the subject firm. The workers are engaged in the production of fish products and French toast sticks.

New information shows that leased workers of Adecco Employment Service and Palladium Employment were employed at the Erie, Pennsylvania location of Pinnacle Foods, VanDeKamp Division of Pinnacle Foods Group.

Based on these findings, the Department is amending this certification to include leased workers of Adecco Employment Service and Palladium Employment working at Pinnacle Foods, VanDeKamp Division of Pinnacle Foods Group, Erie, Pennsylvania.

The intent of the Department's certification is to include all workers employed at Pinnacle Foods, VanDeKamp Division of Pinnacle Foods Group, Erie, Pennsylvania who were adversely affected by increased imports.

The amended notice applicable to TA-W-57,236 is hereby issued as follows:

All workers of Pinnacle Foods, VanDeKamp Division of Pinnacle Foods Group, including leased workers of Adecco Employment Service and Palladium Employment, Erie, Pennsylvania, who became totally or partially separated from employment on or after May 18, 2004, through July 25, 2007, are eligible to apply for adjustment assistance under section 223 of the Trade Act of 1974, and are also eligible to apply for alternative trade adjustment assistance under section 246 of the Trade Act of 1974.

Signed in Washington, DC, this 3rd day of August 2005.
Richard Church,
Certifying Officer, Division of Trade Adjustment Assistance.

[FR Doc. E5-4394 Filed 8-11-05; 8:45 am]

BILLING CODE 4510-30-P